DEPARTMENT OF HOMELAND SECURITY

Coast Guard

33 CFR Parts 161 and 165

[CGD01-04-133]

RIN 1625-AB17

Regulated Navigation Area; Buzzards Bay, Massachusetts; Navigable Waterways Within the First Coast Guard District

AGENCY: Coast Guard, DHS.

ACTION: Final rule; correction.

SUMMARY: The Coast Guard is making two technical corrections to a Final Rule published in the Federal Register on August 30, 2007. The Final Rule titled “Regulated Navigation Area; Buzzards Bay, Massachusetts; Navigable Waterways within the First Coast Guard District” contained imprecise and potentially confusing cross references regarding the applicability of certain regulations implemented by the rule. The revised wording provided in this correction is intended to clarify the intent of the final rule and eliminate any possible confusion.

DATES: This correction is effective as of December 13, 2007.

ADDRESSES: Comments and material received from the public concerning this correction will be made part of the docket for the underlying rule and will be available for inspection and copying at the offices of Commander, Coast Guard Sector Southeastern New England, East Providence Office, 20 Risho Avenue, East Providence, RI 02914, between 8 a.m. and 3 p.m. Monday through Friday, except Federal holidays.

FOR FURTHER INFORMATION CONTACT: Mr. Edward G. LeBlanc at Coast Guard Sector Southeastern New England, East Providence, RI, 401-435-2351.

SUPPLEMENTARY INFORMATION:

Background

On August 30, 2007, the Coast Guard published a Final Rule titled “Regulated Navigation Area; Buzzards Bay, Massachusetts; Navigable Waterways within the First Coast Guard District” to amend an existing Regulated Navigation Area (RNA) within the waters of the First Coast Guard District. (72 FR 50052). Specifically, the Final Rule required that certain tank vessels and tug/barge combinations transiting Buzzards Bay, Massachusetts, be accompanied by escort tugs and pilots operating under a properly endorsed Federal pilot's license. To further this objective, the Coast Guard also established a Vessel Movement Reporting System (VMRS) for Buzzards Bay, and requires that vessels subject to the Vessel Bridge-to-Bridge VHF Radiotelephone regulations participate in the VMRS. This correction alters two potentially confusing cross-references to regulations mentioned in the final rule. The substantive requirements of the rule are not altered by this technical correction.

Need for Correction

The Final Rule amended parts 161 and 165 of Title 33 of the Code of Regulations. As explained in the preamble to the Final Rule, the inserted language was intended to make the general VMRS operating requirements, set forth in subpart B of part 161, applicable to all vessels transiting Buzzard's Bay that are subject to the Vessel Bridge-to-Bridge Radiotelephone Regulations, set forth in 33 CFR part 26. The Final Rule, as published, however, erroneously referred to “Subpart B of this chapter” and “Subpart B of this part” in part 161 and part 165, respectively, instead of referring to “Subpart B of part 161” in the revisions of both part 161 and part 165. The language substituted by this correction is intended to eliminate any potential confusion regarding what vessels are required to participate in the Buzzard's Bay VMRS, and what is required of those vessels.

List of Subjects

33 CFR Part 161

Harbors, Navigation (water), Reporting and recordkeeping requirements, Vessels, Waterways.

33 CFR Part 165

Harbors, Marine safety, Navigation (water), Reporting and recordkeeping requirements, Security measures, and Waterways.

For the reasons discussed in the preamble, the Coast Guard amends 33 CFR parts 161 and 165 as follows:

PART 161—VESSEL TRAFFIC MANAGEMENT

1. The authority citation for part 161 continues to read as follows:

Authority: 33 U.S.C. 1223, 1231; 46 U.S.C. 70114, 70117; Pub. L. 107-295, 116 Stat. 2064; Department of Homeland Security Delegation No. 0170.1.

2. In § 161.12, revise footnote 5 of table 161.12(c) to read as follows:

§ 161.12 Vessel operating requirements.

* * * * *

(c) * * *

⁵ In addition to the vessels denoted in Section 161.16 of this chapter, requirements set forth in subpart B of 33 CFR part 161 also apply to any vessel transiting VMRS Buzzards Bay required to carry a bridge-to-bridge radiotelephone by part 26 of this chapter.

* * * * *

PART 165—WATERWAYS SAFETY; REGULATED NAVIGATION AREAS AND LIMITED ACCESS AREAS

3. The authority citation for part 165 continues to read as follows:

Authority: 33 U.S.C. 1226, 1231; 46 U.S.C. Chapter 701, 3306, 3703; 50 U.S.C. 191, 195; 33 CFR 1.05-1, 6.04-1, 6.04-6, 160.5; Pub. L. 107-295, 116 Stat. 2064; Department of Homeland Security Delegation No. 0170.1.

4. In § 165.100, revise(d)(5)(iv) to read as follows:

§ 165.100 Regulated Navigation Area: Navigable waters within the First Coast Guard District.

* * * * *

(d) * * *

(5) * * *

(iv) In addition to the vessels denoted in § 161.16 of this chapter, requirements set forth in subpart B of 33 CFR part 161 also apply to any vessel transiting VMRS Buzzards Bay required to carry a bridge-to-bridge radiotelephone by Part 26 of this chapter.

* * * * *

Dated: November 29, 2007.
T.V. Skuby,
Captain, U.S. Coast Guard, Acting Commander, First Coast Guard District.

[FR Doc. E7-24128 Filed 12-12-07; 8:45 am]

BILLING CODE 4910-15-P